DEPARTMENT OF THE TREASURY

Office of Foreign Assets Control

Designation of Six Individuals and Four Entities Pursuant to Executive Order 13581, “Blocking Property of Transnational Criminal Organizations”

AGENCY: Office of Foreign Assets Control, Treasury.

ACTION: Notice.

SUMMARY: The Treasury Department's Office of Foreign Assets Control (“OFAC”) is publishing the names of six individuals and four entities whose property and interests in property are blocked pursuant to Executive Order 13581 of July 24, 2011, “Blocking Property of Transnational Criminal Organizations.”

DATES: The designations by the Director of OFAC, pursuant to Executive Order 13581, of the six individuals and four entities identified in this notice were effective on October 30, 2013.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011. In the Order, the President declared a national emergency to deal with the threat that significant transnational criminal organizations pose to the national security, foreign policy, and economy of the United States.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

On October 30, 2013, the Director of OFAC, in consultation with the Attorney General and the Secretary of State, designated, pursuant to one or more of the criteria set forth in subparagraphs (a)(ii)(A) through (a)(ii)(C) of Section 1 of the Order, six individuals and four entities whose property and interests in property are blocked pursuant to the Order.

The listings for these individuals and entities on OFAC's List of Specially Designated Nationals and Blocked Persons appear as follows:

Individuals

1. BADALYAN, Artur (a.k.a. BADALYAN, Arthur); DOB 09 Sep 1963 (individual) [TCO].

2. LEPSVERIDZE, Grigory Victorovich (a.k.a. LEPS, Grigoriy; a.k.a. LEPS, Grigory; a.k.a. “GRISHA”), Phuket, Thailand; DOB 16 Jul 1962; POB Sochi, Russia (individual) [TCO].

3. LYALIN, Vadim Mikhaylovich, Oceana Residences, Unit Aegean/8/803, The Palm, Dubai, United Arab Emirates; 1102 Al Fattan Marine Tower, P.O. Box 1102, Dubai, United Arab Emirates; DOB 30 Sep 1973; Passport 4510935440 (Russia) (individual) [TCO].

4. SHLYKOV, Igor Leonidovich (a.k.a. “SHLYK”); DOB 02 Nov 1967; Passport 530134972 (Russia) (individual) [TCO].

5. MOSKALENKO, Sergey Yevgeniyevich (a.k.a. MOSKALENKO, Sergei Yevgeniyevich), Haldenstrasse 26, Lucerne, Switzerland; DOB 08 Nov 1951; alt. DOB 08 Nov 1961; POB Surkhandaria Region, Uzbekistan; citizen Uzbekistan; Passport CA1702697 (Uzbekistan); alt. Passport CA1938292 (Uzbekistan) (individual) [TCO].

6. RYBALSKIY, Yakov (a.k.a. RABALSKY, Jacob; a.k.a. RIBALSKI, Yaakov; a.k.a. RIBALSKY, Yaakov; a.k.a. RIBALSKY, Yakov; a.k.a. RYBALSKY, Yaakov), Rashi 9/3, Sharon, Israel; DOB 08 Aug 1954; alt. DOB 08 Aug 1950; citizen Israel; Passport 7959978 (Israel); alt. Passport R5408081 (Israel); alt. Passport 9001681 (Israel) (individual) [TCO].

Entities

1. GURGEN HOUSE FZCO (a.k.a. GOURGEN HOUSE LTD; a.k.a. GURGEN HOUSE CO LTD; a.k.a. GURGEN HOUSE LLC; a.k.a. GURGEN HOUSE OOO; a.k.a. GURGEN HOUSE TOO), 130 A, Ulitsa Klara Tsetkina, Shymkent 160000, Kazakhstan; Ulitsa Angarskaya, 22.1, Moscow 125635, Russia; Ulitsa General Dorokhova, A 6 A, Moscow 121357, Russia; Ulitsa Letnikovskaya, 13 A, Office 1, Moscow 115114, Russia; Al Quds Street, Dubai Airport Free Zone, Dubai, United Arab Emirates; Office 210, Building 3E, Dubai Airport Free Zone, P.O. Box 293751, Dubai, United Arab Emirates; P.O. Box 777, Jumeirah, Dubai, United Arab Emirates; Ulitsa Jami, 5, Tashkent 100057, Uzbekistan; National ID No. 40788618 (Kazakhstan); alt. National ID No. 582100259386 (Kazakhstan); Tax ID No. 7743693291 (Russia); Company Number 86483143 (Russia); Public Registration Number 1087746669845 (Russia) [TCO].

2. FASTEN TOURISM LLC (a.k.a. FASTEN TOURISM DUBAI; a.k.a. FASTEN TOURS LLC), P.O. Box 19583, Dubai, United Arab Emirates; 171 Omar Ibn Al Khattab Road, Dubai, United Arab Emirates; National ID No. 223263 (United Arab Emirates) [TCO].

3. M S GROUP INVEST OOO, 9 Prospekt Universitetski, Moscow 119296, Russia; National ID No. 5107746076994 (Russia); alt. National ID No. 69686198 (Russia); alt. National ID No. 7736626537 (Russia) [TCO].

4. MERIDIAN JET MANAGEMENT GMBH (f.k.a. SUN HANDELS UND BETEILIGUNGS GMBH), Tegetthoffstrasse 7, Vienna 1010, Austria; National ID No. FN 204685 h (Austria) [TCO].

Dated: October 30, 2013.
Barbara Hammerle,
Acting Director, Office of Foreign Assets Control.

[FR Doc. 2013-26614 Filed 11-6-13; 8:45 am]

BILLING CODE 4810-AL-P